DEPARTMENT OF VETERANS AFFAIRS

Creating Options for Veterans Expedited Recovery (COVER) Commission; Notice of Meeting

In accordance with the Federal Advisory Committee Act, the Creating Options for Veterans Expedited Recovery (COVER) Commission gives notice that the second meeting will be held on August 21 and August 22, 2018 at the JW Marriott Hotel, 1331 Pennsylvania Avenue NW, Washington, DC 20004-1710. The meeting will convene at 8:00 a.m. and adjourn at 5:00 p.m. EST on both days. The meeting will be open to the public through the entirety of Day One, August 21, and again on Day Two, August 22 through the 2:00 p.m. session. On August 22, the meeting will be closed from 3:00 p.m. to 5:00 p.m. under S.C. 552b(c) under (9)(B) because it would reveal information the disclosure of which would, “in the case of an agency, be likely to significantly frustrate implementation of a proposed agency action.” This closed session would include continued discussion and final decisions on ground rules, decision making protocol, and strategy. Any precipitous release of those discussions through an open session will frustrate implementation and potentially our Veterans who we consider our greatest customer/benefactor of the commission.

Day 1 will focus on CARA Legislation (full scope) and integration with COVER, current VHA Mental Health Services and Resources and Current Process, Specialty and Recreational Therapies, Hyper Baric Therapy, Integrative Health, and a Question and Answer Panel by VA leading experts in CARA legislation, Mental Health and Whole Health Practices. Day 2 will include further review and discussion on past surveys of Veterans Mental Health and approach to a way forward. A listening line will be available to the public who prefer to call in rather than attend the open sessions at the JW Marriott. This listening line number will be activated 10 minutes before each of the two open sessions. The listening line number is 800-767-1750; access code 48664#.

The purpose of the COVER Commission is to examine the evidence-based therapy treatment model used by the Department of Veterans Affairs (VA) for treating mental health conditions of Veterans and the potential benefits of incorporating complementary and integrative health approaches as standard practice throughout the Department.

Any member of the public seeking additional information should email COVERCommission@va.gov. The Designated Federal Officer for the Commission is Ms. Sheila B. Hickman. She and the staff will be monitoring and responding to questions or comments sent to this email box. The Committee will also accept written comments which may be sent to the same email box. In the public's communications with the Committee, the writers must identify themselves and state the organizations, associations, or persons they represent.

Dated: August 7, 2018.
LaTonya L. Small,
Federal Advisory Committee Management Officer.

[FR Doc. 2018-17205 Filed 8-9-18; 8:45 am]

BILLING CODE P